DEPARTMENT OF TRANSPORTATION

Federal Highway Administration

Environmental Impact Statement: Putnam and Jackson Counties, Tennessee

AGENCY: Federal Highway Administration (FHWA), DOT.

ACTION: Notice of intent.

SUMMARY: The FHWA is issuing this notice to advise the public that an environmental impact statement will be prepared for a proposed highway project in Putnam and Jackson Counties near Cookeville, Tennessee.

FOR FURTHER INFORMATION CONTACT: Mr. Mark Doctor, Field Operations Team Leader, Federal Highway Administration, 640 Grassmere Park Suite 112, Nashville, Tennessee 37211, Telephone: (615) 781-5788.

SUPPLEMENTARY INFORMATION: The FHWA, in cooperation with the Tennessee Department of Transportation, will prepare an environmental impact statement (EIS) on a proposal to construct a four-lane divided highway on new location from State Route 111 to State Route 56, a distance of about 14.5 kilometers (9 miles). The proposed project is part of Corridor “J” of the Appalachian Development Highway System.

Alternatives to be considered are: (1) Taking no action; (2) to build alternatives with the same design concept; and (3) other alternatives that may arise from public and agency input. Incorporated into and studied with the build alternatives will be design variations of grade and alignment.

Initial coordination letters describing the proposed action and soliciting comments will be sent to appropriate Federal, State and local agencies, and to private organizations and citizens who have previously expressed or are known to have an interest in this proposal. A public hearing will be held upon completion of the Draft EIS and public notice will be given of the time and place of the hearing. The Draft EIS will be available for public and agency review and comment prior to the public hearing. No formal scoping meeting is planned at this time.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)
Dated: February 27, 2001.
Charles S. Boyd,
Tennessee Division Administrator, Nashville.

[FR Doc. 01-5635 Filed 3-7-01; 8:45 am]

BILLING CODE 4910-22-P